ENVIRONMENTAL PROTECTION AGENCY

[OECA-2002-0006; FRL-7427-2]

Agency Information Collection Activities: Submission of EPA ICR No. 1130.07 (OMB No. 2060-0082) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Grain Elevators—subpart DD, OMB Control No. 2060-0082, EPA ICR No. 1130.07, expiration date January 31, 2003. The ICR, which is abstracted below describes the nature of the information collection and its expected burden and cost.

DATES: Additional Comments must be submitted on or before January 23, 2003.

ADDRESSES: Follow the detailed instructions in the SUPPLEMENTARY INFORMATION section.

FOR FURTHER INFORMATION CONTACT: Kenneth R. Harmon, Compliance Assistance and Sector Programs Division, Office of Compliance, 2224A, Environmental Protection Agency, 1200 Pennsylvania Ave., NW., Washington, DC 20460; telephone number: (202) 564-7049; fax number: (202) 564-7083; e-mail address: harmon.kenneth @ epa.gov. Refer to EPA ICR Number 1130.07.

SUPPLEMENTARY INFORMATION: EPA has submitted the following ICR to OMB for review and approval according to the procedures prescribed in 5 CFR 1320.12. On June 20, 2002 (67 FR 41981), EPA sought comments on this ICR pursuant to 5 CFR 1320.8(d). EPA received no comments.

EPA has established a public docket for this ICR under Docket ID No. OECA-2002-0006, which is available for public viewing at the Enforcement and Compliance Docket and Information Center (EDIC) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number of the EDIC is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to docket.oeca@epa.gov, or by mail to: EPA Docket Center, Environmental Protection Agency, Mailcode: 2201T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Title: NSPS Grain Elevators—subpart DD (OMB Control No. 2060-0082; EPA ICR No. 1130.07). This is a request to renew a collection that is scheduled to expire on January 31, 2003. Under the Paperwork Reduction Act, the Agency may continue to conduct or sponsor the collection of information while this submission is pending at OMB.

Abstract: This ICR contains recordkeeping and reporting requirements that are mandatory for compliance with 40 CFR 60.300, et seq., subpart DD, New Source Performance Standards for Grain Elevators. This information notifies EPA when a source becomes subject to the regulations, informs the Agency if a source is in compliance.

In the Administrator's judgment, particulate matter emissions from grain elevators cause or contribute to air pollution that may reasonably be anticipated to endanger public health or welfare. Therefore, NSPS were promulgated for this source category, as required under section 111 of the Clean Air Act.

Controlling emissions of particulate matter from grain elevators requires not only the installation of properly designed equipment, but also the operation and maintenance of that equipment. Particulate emissions from grain elevators are the result of grain drying and grain handling operations, including loading and unloading. These standards rely on the proper operation of particulate control devices such as baghouses and equipment such as shed doors and spouts designed to reduce particulate emission during grain unloading and loading.

Owners or operators of the affected facilities subject to NSPS subpart DD must make the following one-time-only reports: notification of the date of construction or reconstruction; notification of the anticipated and actual dates of startup; notification of any physical or operational change to an existing facility that may increase the rate of emission of the regulated pollutant; notification of the date of the initial performance test; and the results of the initial performance test, including information necessary to determine the conditions of the performance test and performance test measurements and results, including particulate matter concentration and opacity.

Owners or operators are also required to maintain records of the occurrence and duration of any startup, shutdown, or malfunction in the operation of an affected facility, as well as the nature and cause of the malfunction (if known) and corrective measures taken. These notifications, reports and records are required, in general, of all sources subject to NSPS. Without such information, enforcement personnel would be unable to determine if the standards are being met.

The required information consists of emissions data and other information that have been determined not to be private. However, any information submitted to the Agency for which a claim of confidentiality is made will be safeguarded according to the Agency policies set forth in Title 40, chapter 1, part 2, subpart B—Confidentiality of Business Information (see 40 CFR 2; 41 FR 36902, September 1, 1976; amended by 43 FR 40000, September 8, 1978; 43 FR 42251, September 20, 1978; 44 FR 1764, March 23, 1979).

Approximately 127 sources are currently subject to the standard. EPA estimates that three additional sources will become subject to the standard in each of the next three years.

An agency may not conduct or sponsor, and a person is not required to respond to, a collection of information unless it displays a currently valid OMB control number. The OMB control numbers for EPA's regulations are listed in 40 CFR part 9 and 48 CFR chapter 15.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are each truck unloading station, truck loading station, barge and ship unloading station, barge and ship loading station, railcar loading station, railcar unloading station, grain dryer, and all grain handling operations at any grain terminal elevator or any grain storage elevator subject to NSPS subpart DD.

Estimated Number of Respondents: 132.

Frequency of Response: 155 annually.

Estimated Total Annual Hour Burden: 259.

Estimated Total Annual Cost: $14,811.

Changes in the Estimates: There is an increase of 9 hours in the total estimated burden currently identified in the OMB Inventory of Approved ICR Burdens. This slight increase in burden results from the slight growth in the number of regulated grain elevators.

Dated: December 10, 2002.
Oscar Morales,
Director, Collection Strategies Division.

[FR Doc. 02-32398 Filed 12-23-02; 8:45 am]

BILLING CODE 6560-50-P